DEPARTMENT OF LABOR

Employment And Training Administration

[TA-W-53,042]

Solon Manufacturing Co., Rhinelander, Wisconsin; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on October 22, 2003, applicable to workers of Solon Manufacturing Company, Rhinelander, Wisconsin. The notice was published in the Federal Register on November 28, 2003 (68 FR 66879).

At the request of the State agency, the Department reviewed the certification for workers of the subject firm. The workers are engaged in the production of ice cream sticks and are not separately identifiable by product line.

New findings show that there was a previous certification, TA-W-39,153, issued on May 8, 2001, for workers of Solon Manufacturing, Rhinelander, Wisconsin, who were engaged in employment related to the production of ice cream sticks. That certification expired May 8, 2003. To avoid an overlap in worker group coverage, the certification is being amended to change the impact date from September 24, 2002, to May 9, 2003, for workers of the subject firm.

The amended notice applicable to TA-W-53,042 is hereby issued as follows:

“All workers of Solon Manufacturing Company, Rhinelander, Wisconsin, who became totally or partially separated from employment on or after May 9, 2003, through October 22, 2005, are eligible to apply for adjustment assistance under Section 223 of the Trade Act of 1974 and are also eligible to apply for alternative trade adjustment assistance under section 246 of the Trade Act of 1974.”

Signed at Washington, DC, this 22nd day of January, 2004.
Elliott S. Kushner,
Certifying Officer, Division of Trade Adjustment Assistance.

[FR Doc. E4-245 Filed 2-9-04; 8:45 am]

BILLING CODE 4510-13-P